DEPARTMENT OF HOMELAND SECURITY

Coast Guard

[USCG-2014-0941]

Port Access Route Study: In the Chukchi Sea, Bering Strait and Bering Sea

AGENCY: Coast Guard, DHS.

ACTION: Notice; extension of comment period.

SUMMARY: The Coast Guard is extending the comment period for the Port Access Route Study (PARS) in the Chukchi Sea, Bering Strait and Bering Sea until August 18, 2015. This extension is necessary to allow all interested parties to submit comments to the docket for Coast Guard consideration.

DATES: Comments and related material must either be submitted to our online docket via http://www.regulations.gov or reach the Docket Management Facility on or before August 18, 2015.

ADDRESSES:

Comment submission: You may submit comments identified by docket number USCG-2014-0941 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice of study or extension of comment period, call or email LT Kody Stitz, Seventeenth Coast Guard District (dpw); telephone (907) 463-2270; email Kody.J.Stitz@uscg.mil or Mr. David Seris, Seventeenth Coast Guard District (dpw); telephone (907) 463-2267; email David.M.Seris@uscg.mil.

SUPPLEMENTARY INFORMATION:

Public Participation and Request for Comments

We encourage you to participate in this study by submitting comments and related materials. All comments received will be posted without change to http://www.regulations.gov and will include any personal information you have provided.

Submitting Comments

If you submit a comment, please include the docket number for this notice of study (USCG-2014-0941), indicate the specific section of this document to which each comment applies, and provide a reason for each suggestion or recommendation. You may submit your comments and material online (via http://www.regulations.gov) or by fax, mail, or hand delivery, but please use only one of these means. If you submit a comment online via www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type “USCG-2014-0941” into the search bar and click search, next to the displayed search results click “Comment Now”, which will open the comment page for this study. If you submit your comments by mail or hand delivery, submit them in an unbound format, no larger than 8.5 by 11 inches, suitable for copying and electronic filing. If you submit comments by mail and would like to know that they reached the Facility, please enclose a stamped, self-addressed postcard or envelope. We will consider all comments and material received during the comment period.

Viewing Comments and Documents

To view comments, as well as documents mentioned in this preamble as being available in the docket, go to http://www.regulations.gov, type “USCG-2014-0941” into the search bar and click search, next to the displayed search results click “Open Docket Folder”, which will display all comments and documents associated with this docket. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Background and Purpose

The Coast Guard published a Notice of Study in the Federal Register of December 05, 2014 entitled, “Port Access Route Study (PARS) in the Chukchi Sea, Bering Strait and Bering Sea”. This original notice of study announcement stated the comment period would end on June 3, 2015; however, on February 19, 2015 the Coast Guard issued a notice in the Federal Register which errantly stated the comment period would end on August 18, 2015. The Coast Guard placed a correction notice in the Federal Register informing the public of the error but because this error was caused by the Coast Guard we are extending the public comment period through August 18, 2015 to ensure all interested members of the public are able to submit their comments to the docket.

Dated: July 2, 2015.
D.B. Abel,
Rear Admiral, U.S. Coast Guard Commander, Seventeenth Coast Guard District.

[FR Doc. 2015-16967 Filed 7-10-15; 8:45 am]

BILLING CODE 9110-04-P